DEPARTMENT OF LABOR

Employment and Training Administration

[TA-W-62,796]

Manosh Hardwoods LLC, Sawmill Including On-Site Leased Workers of Westaff, Inc., Including Workers Whose Wages Were Paid by H.A. Manosh Corporation, Morrisville, VT; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on March 14, 2008, applicable to workers of Manosh Hardwoods LLC, Sawmill, including on-site leased workers of Westaff, Inc., Morrisville, Vermont. The notice was published in the Federal Register on March 26, 2008 (73 FR 16063).

At the request of the State agency, the Department reviewed the certification for workers of the subject firm. The workers were engaged in the production of rough hardwood lumber for floors, furniture, etc.

New information shows that H.A. Manosh Corporation is the parent firm of Manosh Hardwoods LLC, Sawmill. Some workers at the subject firm are involved in the closing of the business, selling off inventory and property, and have their wages reported under a separate unemployment insurance (UI) tax account for H.A. Manosh.

Accordingly, the Department is amending the certification to properly reflect this matter.

The intent of the Department's certification is to include all workers of Manosh Hardwoods LLC, Sawmill who were adversely affected by increased customer imports.

The amended notice applicable to TA-W-62,796 is hereby issued as follows:

All workers of Manosh Hardwoods LLC, Sawmill, including on-site leased workers of Westaff, Inc., including workers whose wages were paid by H.A. Manosh Corporation, Morrisville, Vermont, who became totally or partially separated from employment on or after January 23, 2007, through March 14, 2010, are eligible to apply for adjustment assistance under Section 223 of the Trade Act of 1974, and are also eligible to apply for alternative trade adjustment assistance under Section 246 of the Trade Act of 1974.

Signed at Washington, DC, this 27th day of March 2008.
Elliott S. Kushner,
Certifying Officer, Division of Trade Adjustment Assistance.

[FR Doc. E8-8974 Filed 4-24-08; 8:45 am]

BILLING CODE 4510-FN-P